DEPARTMENT OF THE INTERIOR

Fish and Wildlife Service

50 CFR Part 17

RIN 1018-AH10

Endangered and Threatened Wildlife and Plants; Prudency Determinations for Eight Plant Species From the Hawaiian Islands, and Proposed Critical Habitat Designations for Eighteen Plant Species From the Island of Lanai, Hawaii

AGENCY: Fish and Wildlife Service, Interior.

ACTION: Proposed rule; extension of comment period, and public hearing announcement.

SUMMARY: The U.S. Fish and Wildlife Service (Service) gives notice of a public hearing on the prudency determinations for 8 plants and the proposed critical habitat designations for 18 plants from the island of Lanai, Hawaii. In addition, the comment period which will close on February 26, 2001, will be extended. The new comment period and hearing will allow all interested parties to submit oral or written comments on the proposal. We are seeking comments or suggestions from the public, other concerned agencies, the scientific community, industry, or any other interested parties concerning the proposed rule. Comments already submitted on the proposed rule need not be resubmitted as they will be fully considered in the final determination.

DATES: The comment period for this proposal now closes on April 2, 2001. Any comments received by the closing date will be considered in the final decision on this proposal. The public hearing will be held from 6:00 p.m. to 8:00 p.m. on March 22, 2001, on the island of Lanai, Hawaii. Prior to the public hearing, the Service will be available from 5:30 p.m. to 6:00 p.m. to provide information and to answer questions. The Service will also be available for questions after the hearing.

ADDRESSES: Comments and materials concerning this proposal should be sent to the Field Supervisor, U.S. Fish and Wildlife Service, Pacific Islands Ecoregion Office, 300 Ala Moana Boulevard, Room 3-122, P.O. Box 50088, Honolulu, Hawaii 96850. Comments and materials received will be available for public inspection, by appointment, during normal business hours at the above address. The public hearing will be held at the Lanai Public Library Meeting Room, Fraser Avenue, Lanai City, Hawaii.

FOR FURTHER INFORMATION CONTACT: Paul Henson, at the above address, phone 808-541-3441, facsimile 808-541-3470.

SUPPLEMENTARY INFORMATION:

Background

On December 27, 2000, the Service published notice of prudency determinations for 8 plant species and proposed designations of critical habitat for 18 plant species from the island of Lanai, Hawaii, pursuant to the Endangered Species Act of 1973, as amended (Act) in the Federal Register (65 FR 82086). The original comment period will close on February 26, 2001. The comment period now closes on April 2, 2001. Written comments should be submitted to the Service (see ADDRESSES section).

A total of 37 species historically found on Lanai were listed as endangered or threatened species under the Act between 1991 and 1999. Some of these species may also occur on other Hawaiian islands. At the time each plant was listed, with the exception of three species, we determined that designation of critical habitat was not prudent because designation would increase the degree of threat to the species and/or would not benefit the species. We determined that designation of critical habitat was prudent for Hedyotis schlechtendahliana var. remyi, Labordia tinifolia var. lanaiensis, and Melicope munroi at the time of their listing in 1999.

Due to litigation, we reconsidered our previous prudency determinations for 34 plants. From this review, we are proposing that critical habitat is prudent for eight of these species because the potential benefits of designating critical habitat essential for the conservation of these species outweigh the risks of designation. We are proposing that the designation of critical habitat is not prudent for one species, Phyllostegia grabra var. lanaiensis, which is no longer extant in the wild, and for which no genetic material is currently known. Such designation would not be beneficial to this species. In other proposed rules we determined that critical habitat was prudent for nine species that occur on Lanai as well as on Kauai, Niihau, Maui, or Kahoolawe (65 FR 66808; 65 FR 79192). The remaining 17 species historically found on Lanai no longer occur on this island. However, these species do occur on other islands, so proposed prudency determinations will be made in future rules addressing plants on those islands.

This proposed rule also proposes designation of critical habitat for 18 plant species. Ten critical habitat units, covering 1,953 hectares (4,826 acres), are proposed for designation on the island of Lanai.

Section 4(b)(5)(E) of the Act (16 U.S.C. 1531 et seq.), requires that a public hearing be held if it is requested within 45 days of the publication of a proposed rule. In response to a request from a government agency of the State of Hawaii, the Service will hold a public hearing on the date and at the address described in the DATES and ADDRESSES sections above.

Anyone wishing to make an oral statement for the record is encouraged to provide a written copy of their statement and present it to the Service at the hearing. In the event there is a large attendance, the time allotted for oral statements may be limited. Oral and written statements receive equal consideration. There are no limits to the length of written comments presented at the hearing or mailed to the Service. Legal notices announcing the date, time, and location of the public hearing will be published in newspapers concurrently with the Federal Register notice.

Comments from the public regarding the accuracy of this proposed rule are sought, especially regarding:

(1) The reasons why critical habitat for any of these species is prudent or not prudent;

(2) The reasons why any particular area should or should not be designated as critical habitat for any of these species;

(3) Specific information on the amount and distribution of habitat for any of these species;

(4) Land use practices and current or planned activities in the subject areas and their possible impacts on proposed critical habitat;

(5) Any economic or other relevant impacts resulting from the proposed designations of critical habitat, including any impacts on small entities or families; and

(6) Economic and other potential values associated with designating critical habitat for the 18 plant species such as those derived from non-consumptive uses (e.g., hiking, camping, birding, enhanced watershed protection, increased soil retention, “existence values”, and reductions in administrative costs).

Reopening of the comment period will enable the Service to respond to the request for a public hearing on the proposed action. The comment period on this proposal now closes on April 2, 2001. Written comments should be submitted to the Service office listed in the ADDRESSES section.

Author

The primary authors of this notice are Christa Russell and Michelle Stephens (see ADDRESSES section).

Authority: The authority for this action is the Endangered Species Act of 1973 (16 U.S.C. 1531 et seq.).

Dated: February 13, 2001.
Rowan W. Gould,
Acting Regional Director, Region 1, Fish and Wildlife Service.

[FR Doc. 01-4381 Filed 2-21-01; 8:45 am]

BILLING CODE 4310-55-P